DEPARTMENT OF STATE

[Public Notice 5250]

Determination Pursuant to Section 1(b) of Executive Order 13224 Relating to the Designation of Sajid Mohammed Badat, Also Known as Saajid Badat, Also Known as Muhammed Badat, Also Known as Sajid Muhammad Badat, Also Known as Saajid Mohammad Badet, Also Known as Muhammed Badet, Also Known as Sajid Muhammad Badet, Also Known as Abu Issa al Pakistani, Also Known as Issa, Also Known as Issa Al Britaini, Also Known as Issa Al Pakistani; DOB: 28 March 1979; Alt. DOB: 8 March 1976; POB: Pakistan; Citizenship: British; Passport: 703114075 and 026725401

Acting under the authority of section 1(b) of Executive Order 13224 of September 23, 2001, as amended by Executive Order 13286 of July 2, 2002, and Executive Order 13284 of January 23, 2003, and Executive Order 13372 of February 16, 2005, in consultation with the Secretary of the Treasury, the Attorney General, and the Secretary of Homeland Security, I hereby determine that Sajid Mohammed Badat, aka Saajid Badat, aka Muhammed Badat, aka Sajid Muhammad Badat, aka Saajid Mohammad Badet, aka Muhammed Badet, aka Sajid Muhammad Badet, aka Abu Issa Al Pakistani, aka Issa, aka Issa Al Britaini, aka Issa Al Pakistani has committed and poses a significant risk of committing, acts of terrorism that threaten the security of U.S. nationals and the national security, foreign policy, or economy of the United States.

Consistent with the determination in section 10 of Executive Order 13224 that “prior notice to persons determined to be subject to the Order who might have a constitutional presence in the United States would render ineffectural the blocking and other measures authorized in the Order because of the ability to transfer funds instantaneously,” I determine that no prior notice need be provided to any person subject to this determination who might have a constitutional presence in the United States, because to do so would render ineffectual the measures authorized in the Order.

This notice shall be published in the Federal Register.

Condoleezza Rice,
Secretary of State, Department of State.

[FR Doc. 05-24262 Filed 12-16-05; 5:00 pm]

BILLING CODE 4710-10-U